DEPARTMENT OF TRANSPORTATION

Federal Aviation Administration

14 CFR Part 39

[Docket No. 2002-NM-207-AD; Amendment 39-13563; AD 2004-07-19]

RIN 2120-AA64

Airworthiness Directives; Boeing Model 747-100, -100B, -100B SUD, -200B, -200C, -200F, -300, 747SR, and 747SP Series Airplanes Equipped With Pratt & Whitney JT9D-3, -7, -7Q, and -7R4G2 Series Engines

AGENCY: Federal Aviation Administration, DOT.

ACTION: Final rule.

SUMMARY: This amendment adopts a new airworthiness directive (AD), applicable to certain Boeing Model 747-100, -100B, -100B SUD, -200B, -200C, -200F, -300, 747SR, and 747SP series airplanes equipped with Pratt & Whitney JT9D-3, -7, -7Q, and -7R4G2 series engines. This amendment requires drilling witness holes through the cowl skin at the cowl latch locations in the left-hand side of the cowl panel assembly of each engine. This action is necessary to prevent improper connection of the latch, which could result in separation of a cowl panel from the airplane. Such separation could cause damage to the airplane, consequent rapid depressurization, and hazards to persons or property on the ground. This action is intended to address the identified unsafe condition.

DATES: Effective May 11, 2004.

The incorporation by reference of certain publications listed in the regulations is approved by the Director of the Federal Register as of May 11, 2004.

ADDRESSES: The service information referenced in this AD may be obtained from Boeing Commercial Airplanes, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Kinney, Aerospace Engineer, Propulsion Branch, ANM-140S, FAA, Seattle Aircraft Certification Office, 1601 Lind Avenue, SW., Renton, Washington 98055-4056; telephone (425) 917-6499; fax (425) 917-6590.

SUPPLEMENTARY INFORMATION: A proposal to amend part 39 of the Federal Aviation Regulations (14 CFR part 39) to include an airworthiness directive (AD) that is applicable to certain Boeing Model 747-100, -100B, -100B SUD, -200B, -200C, -200F, -300, 747SR, and 747SP series airplanes equipped with Pratt & Whitney JT9D-3, -7, -7Q, and -7R4G2 series engines was published as a supplemental notice of proposed rulemaking in the Federal Register on February 6, 2004 (69 FR 5781). That action proposed to require drilling witness holes through the cowl skin at the cowl latch locations in the left-hand side of the cowl panel assembly of each engine.

Comments

Interested persons have been afforded an opportunity to participate in the making of this amendment. No comments were submitted in response to the proposal or the FAA's determination of the cost to the public.

Conclusion

The FAA has determined that air safety and the public interest require the adoption of the rule as proposed.

Cost Impact

There are approximately 481 airplanes of the affected design in the worldwide fleet. The FAA estimates that 114 airplanes of U.S. registry will be affected by this AD, that it will take approximately 8 work hours per airplane (2 work hours per engine) to accomplish the required actions, and that the average labor rate is $65 per work hour. Based on these figures, the cost impact of the AD on U.S. operators is estimated to be $59,280, or $520 per airplane.

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2004-07-19 Boeing: Amendment 39-13563. Docket 2002-NM-207-AD.

Applicability: Model 747-100, -100B, -100B SUD, -200B, -200C, -200F, -300, 747SR, and 747SP series airplanes; equipped with Pratt & Whitney JT9D-3, -7, -7Q, and -7R4G2 series engines; line numbers 1 through 814 inclusive, certificated in any category.

Compliance: Required as indicated, unless accomplished previously.

To prevent improper connection of the cowl latch located in the left-hand side of the cowl panel assembly of each engine, which could result in separation of a cowl panel from the airplane; accomplish the following:

Drill Holes

(a) Within 36 months after the effective date of this AD: Drill witness holes through the cowl skin at each of the six cowl latch locations located on the left-hand side of the cowl panel assembly of each engine, per paragraphs 3.B.1. through 3.B.4. of the Accomplishment Instructions of Boeing Special Attention Service Bulletin 747-71-2301, Revision 1, dated August 21, 2003.

Credit for Actions Accomplished per Previous Service Bulletin

(b) Actions accomplished before the effective date of this AD per the Accomplishment Instructions of Boeing Service Bulletin 747-71-2301, dated May 30, 2002, are acceptable for compliance with the requirements of paragraph (a) of this AD.

Alternative Methods of Compliance

(c) In accordance with 14 CFR 39.19, the Manager, Seattle Aircraft Certification Office, FAA, is authorized to approve alternative methods of compliance (AMOCs) for this AD.

Incorporation by Reference

(d) Unless otherwise specified in this AD, the actions shall be done in accordance with Boeing Special Attention Service Bulletin 747-71-2301, Revision 1, dated August 21, 2003. This incorporation by reference was approved by the Director of the Federal Register in accordance with 5 U.S.C. 552(a) and 1 CFR part 51. Copies may be obtained from Boeing Commercial Airplanes, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(e) This amendment becomes effective on May 11, 2004.

Issued in Renton, Washington, on March 25, 2004.
Kevin M. Mullin,
Acting Manager, Transport Airplane Directorate, Aircraft Certification Service.

[FR Doc. 04-7299 Filed 4-5-04; 8:45 am]

BILLING CODE 4910-13-P